DEPARTMENT OF HEALTH AND HUMAN SERVICES

Centers for Disease Control and Prevention

[Program Announcement 01094]

Professional Education on Prostate Cancer: Primary Health Care Providers; Notice of Availability of Funds

A. Purpose

The Centers for Disease Control and Prevention (CDC) announces the availability of funds for fiscal year (FY) 2001 for competing cooperative agreements for “Professional Education on Prostate Cancer: Primary Health Care Providers.” This program addresses the “Healthy People 2010” focus area of Cancer.

The purpose of this program is to provide Primary Health Care Professional education on prostate cancer screening including potential benefits and harms, fundamentals of effective patient counsel, and informed decision making.

B. Eligible Applicants

Eligible applicants are private and public nonprofit medical organizations or associations that have established and conducted nationwide professional medical education programs and activities related to health promotion, cancer awareness, mortality and morbidity prevention. Organizations and associations that represent primary health care physicians, including but not limited to family practice physicians and internal medicine specialists, are examples of eligible applicants.

The recommendations developed by the United States Preventive Services Task Force (USPSTF) currently guide programmatic activities at CDC. Therefore, the prostate screening recommendations of eligible organizations should be evidence-based, utilizing current research data and information published in Peer Reviewed medical journals.

Note: Title 2 of the United States Code, Chapter 26, Section 1611 states that an organization described in section 501(c)(4) of the Internal Revenue Code of 1986 that engages in lobbying activities is not eligible to receive Federal funds constituting an award, grant, cooperative agreement, contract, loan, or any other form.

C. Availability of Funds

Approximately $600,000 is available in FY 2001 to fund approximately two awards. It is expected that the average award will be $300,000 ranging from $200,000 to $400,000. It is expected that the awards will begin on or about September 1, 2001, and will be made for a 12-month budget period within a project period of up to two years. Funding estimates may vary and are subject to change.

Continuation awards within the approved project period will be made on the basis of satisfactory progress and the availability of funds.

Use of Funds

Funds may not be expended for the purchase or lease of land or buildings, construction of facilities, renovation of existing space, or the delivery of clinical and therapeutic services. The purchase of equipment is discouraged but will be considered for approval if justified on the basis of being essential to the project and not available from any other source.

D. Program Requirements

In conducting activities to achieve the purpose of this program announcement, the recipient will be responsible for the activities under 1. (Recipient Activities), and CDC will be responsible for conducting activities under 2. (CDC Activities).

1. Recipient Activities

a. Develop strategies to increase the knowledge base of Primary Health Care Providers about issues related to prostate cancer screening, determinants of outcomes, and informed decision making.

b. Educational materials may be designed to satisfy requirements for awarding American Medical Association (AMA) Category I continuing medical education credits. As a condition for maintaining a licence to practice medicine in most states, the educational materials developed under this program can provide an appropriate incentive and opportunity for medical providers to satisfy this requirement when attending professional conferences, or as provided through other mechanisms and offerings by medical organizations, associations, and institutions for continuing medical education credits.

c. Establish measurable objectives that can be used to assess accomplishment of project activities.

d. The expertise required to develop the quality of educational materials that are desired is not likely to be found in a single institution or organization because of the scope and complexity of concepts related to prostate cancer screening and patient management. Project objectives will greatly be assisted by establishing partnerships with other appropriate medical organizations that have specific expertise in areas of prostate cancer diagnosis, patient management, and informed decision making, all of which are necessary to increase primary care provider knowledge and reduce inconsistencies in patterns of medical practice.

e. Opportunities for review and comment on the recommended educational materials arising from this program announcement are encouraged and may be provided to other stakeholders and representative organizations with prostate cancer expertise, such as the U.S. Preventive Services Task Force, American Urological Association, American Cancer Society, National Medical Association, AMA, National Cancer Institute, etc.

f. Evaluate project achievements through a well-designed evaluation plan that assesses each objective.

g. Publish and disseminate educational materials to organization members at national, State, and local venues conducive for earning and awarding Continuing Medical Education Credits for primary care providers who master and demonstrate competency in prescribed learning objectives as supplements to existing primary care provider continuing medical education opportunities and improve prostate cancer patient management and practice patterns.

h. Demonstrate ability to engage racial/ethnically diverse health care providers and affiliated organizations by providing documentation of collaboration with racially and ethnically diverse institutions and medical organizations to develop and disseminate educational materials.

2. CDC Activities

a. Provide technical assistance.

b. Collaborate with recipients in the development, evaluation, and dissemination of educational materials designed to improve Primary Health Care Professionals' knowledge and awareness of prostate cancer screening issues.

c. Provide periodic updates about public knowledge, attitudes, and practices regarding early detection and control of prostate cancer.

d. Collaborate with recipients to develop meeting agendas.

e. Collaborate with recipients to develop and publish recommended educational material to this program announcement.

E. Content

Use the information in the Program Requirements, Other Requirements, and Evaluation Criteria sections to develop the application content. Your application will be evaluated on the criteria listed, so it is important to follow them in laying out your program plan. The narrative should be no more than 30 double-spaced pages, printed on one side, with one inch margins, and unreduced font. The original and each copy of the application must be submitted unstapled and unbound. Print all material, single-spaced, in a 12-point or larger font on 8½″ by 11″ paper, with at least 1-inch margins and printed on one side only.

Applicant activities should focus on increasing the knowledge base of primary health care providers on prostate cancer screening and related issues, henceforth referred to in this announcement as Target Physician Population.

1. Background and Need

a. Describe the population of primary care providers as it relates to the purpose of this program announcement, barriers to or gaps in prostate cancer screening knowledge, and strategies to overcome barriers, reduce knowledge gaps, and inconsistencies in patient management.

b. Describe the organization's past and present education activities related to prostate cancer screening and disease control.

c. Describe the applicant's experience related to services provided by primary care practitioners, and the rationale for use of previously conducted or newly developed strategies to enhance prostate cancer screening knowledge and improve patient counseling skills in ways that result in informed decision making.

d. Describe the presence of explicit recommendations regarding prostate cancer screening and demonstrate that data and information used to develop recommendations are consistent with that used by the U.S. Preventive Services Task Force. Additional information can be obtained at the website below: http://hstat.nlm.nih.gov/ftrs/directBrowse.pl?dbNa me=cps&href=CH10&t=982852733

2. Goals and Objectives

a. Objectives: Identify time-framed, measurable objectives consistent with the purpose of this program announcement.

b. Activities: Clearly identify specific activities and strategies that will be undertaken to achieve each project objective during the budget period.

c. Milestone Chart: Submit a milestone-to-completion chart consistent with the time-frame of the project period.

3. Capabilities

a. Describe the nature and extent of constituent support for past and present organizational activities related to prostate cancer screening, patient counseling, and follow-up.

b. Describe the nature and extent of health care provider education activity, especially those related to prostate cancer screening, patient counseling, follow-up, and informed decision making.

c. Provide a comprehensive plan for national dissemination of educational material and information recommended in connection with this program announcement.

4. Project Management

a. Submit a copy of the organization's mission statement.

b. Describe the organization's structure and function, size, membership, substructure, professional education activities on a regional, State, or local level, and methods of routine communication with members (newsletters, journals, meetings, etc.).

c. Describe each current or proposed position for this project by job title, function, general duties, and activities with which that position will be involved. Include the level of effort and allocation of time for each project activity by staff position. Minimal staffing should include a full-time project coordinator. Accountability and guidance for all activities under this program announcement should have direct oversight provided by senior staff of the funded organization who are knowledgeable about prostate cancer screening, patient management, as well as other related issues.

5. Collaborative Activities

Describe past and proposed collaborative working partnerships with primary health care providers, medical organizations or associations that represent primary health care providers or that have established linkages with that group of providers. Include evidence of formal collaborations and partnerships such as Memorandums Of Agreement.

6. Program Evaluation Plan

Identify methods for measuring progress toward attaining project objectives and monitoring activities. The evaluation plan should include qualitative and quantitative data collection and assessment mechanisms. The plan should include baseline data or mechanisms that will be used to establish baseline data, expected outcomes, minimum data to be collected, systems for collecting and analyzing the data. Examples of the type and scope of data necessary for evaluation purposes may include the following:

a. Describe the access strategy that will be used to reach primary care providers, the number expected to be reached, and a plan for determining how well providers satisfactorily master the information and concepts embodied in the educational materials recommended.

b. Demographic information such as age, sex, race, practice setting, etc.

c. Recommendations for when, where, and how often educational activities should be conducted.

7. Budget and Narrative Justification

Provide a detailed line-item budget and narrative justification of all operating expenses consistent with the proposed objectives and planned activities. Provide precise information about the project purpose for each budget item and itemize calculations when appropriate.

Applicants should budget for the following costs:

Travel

a. A minimum of three persons to Atlanta, Georgia to attend the Annual National Cancer Prevention and Control Conference (3 days).

b. A minimum of three persons to Atlanta, Georgia to report program implementation progress (reverse site visit) and for consultation and technical assistance (2 days) (1 trip per year).

c. Up to 2 additional 2-person trips to Atlanta, or other specified destination to attend national training center educational programs on national work groups, task forces or committees (1-3 days).

F. Submission and Deadline

Submit the original and two copies of PHS-5161 (OMB Number 0925-0001) (adhere to the instructions on the Errata Instruction Sheet for PHS 398). Forms are available in the application kit and at the following Internet address: http://forms.psc.gov

On or before June 20, 2001, submit the application to the Grants Management Specialist identified in the “Where to Obtain Additional Information” section of this announcement.

Deadline: Applications shall be considered as meeting the deadline if they are either:

Received on or before the deadline date; or Sent on or before the deadline date and received in time for submission to the independent review group. (Applicants must request a legibly dated U.S. Postal Service postmark or obtain a legibly dated receipt from a commercial carrier or U.S. Postal Service. Private metered postmarks shall not be acceptable as proof of timely mailing.)

Late: Applications which do not meet the criteria in 1. or 2. above will be returned to the applicant.

G. Evaluation Criteria (100 Points)

Each application will be evaluated individually against the following criteria by an independent review group appointed by CDC.

1. Background and Need (10 Points)

a. The extent to which the applicant demonstrates understanding of the project's purpose, objectives, and special challenges created by the wide disparity in prostate cancer experienced by high risk and low risk groups. Evidence of efforts to address these special challenges may be demonstrated by the assembly and inclusion of prostate cancer experts throughout all project activities who can articulate concerns unique to certain racial and ethnic groups in the United States.

b. The extent to which the applicant identifies the population of primary care providers population and assess the need for the proposed activities.

c. The extent to which the applicant demonstrates possession of evidence-based recommendations regarding prostate cancer screening.

2. Goals and Objectives (20 Points)

The degree to which specific, time-framed, and measurable objectives, process, and outcome measures are consistent with the stated purpose of the program announcement.

3. Capabilities (25 Points)

a. The extent to which the applicant demonstrates the availability of staff who have participated in professional education activities similar to those described in the proposed project. The staff should possess appropriate qualifications and experience to accomplish project activities (10 points).

b. The quality of the available organizational infrastructure including: office space, administrative and organizational support, and a demonstrated history of effective independent programs, and partnerships with other physician organizations, that have successfully educated large numbers of primary health care providers regarding preventive measures such as cancer screening (10 points).

c. The extent to which applicant demonstrates an ability to engage racial/ethnically diverse health care providers and affiliated organizations by providing documentation of collaboration with racially and ethnically diverse institutions and medical organizations to develop and disseminate educational materials. (5 points).

4. Project Management (15 Points)

The quality and feasibility of the proposed activities for achieving project objectives, including the adequacy of proposed personnel time allocations and the extent to which proposed staff exhibit appropriate qualifications and experience to accomplish project activities. Personnel assigned to complete tasks under this program announcement should hold senior positions within the funded organization as well as in any other organization that may collaborate to complete assigned tasks under this agreement.

5. Collaborative Activities (15 Points)

The appropriateness and relevance of collaborative linkages with Primary Care Physicians or affiliated professional organizations, and the extent to which the applicant demonstrates its ability to access the targeted physician group and disseminate recommended educational materials on a national basis.

6. Program Evaluation Plan (15 Points)

The quality of the evaluation plan for monitoring progress that relates to intervention activities and objectives that are described in the announcement.

7. Budget and Justification (Not scored)

The extent to which the budget is reasonable and consistent with the purpose and objectives of the cooperative agreement.

H. Other Requirements

Technical Reporting Requirements

Provide CDC with original plus two copies of:

1. Annual progress reports;

2. Financial status report, no more than 90 days after the end of the budget period; and

3. Final financial and performance reports, no more than 90 days after the end of the project period.

Send all reports to the Grants Management Specialist identified in the “Where to Obtain Additional Information” section of this announcement.

The following additional requirements are applicable to this program. For a complete description of each, see Attachment I of the announcement.

AR-7 Executive Order 12372 Review

AR-9 Paperwork Reduction Act Requirements

AR-10 Smoke-Free Workplace Requirements

AR-11 Healthy People 2010

AR-12 Lobbying Restrictions

AR-14 Accounting System Requirements

AR-15 Proof of Non-Profit Status

I. Catalog of Federal Domestic Assistance Number

This program is authorized by sections 317(k)(2) [42 U.S.C. 247b(k)(2)] of the Public Health Service Act, as amended. The Catalog of Federal Domestic Assistance number is 93.283.

J. Where To Obtain Additional Information

This and other CDC announcements can be found on the CDC home page Internet address http://www.cdc.gov Click on “Funding” then “Grants and Cooperative Agreements.”

Should you have questions after reviewing the contents of all the documents, business management technical assistance may be obtained from: Jesse Robertson, Grants Management Specialist, Grants Management Branch, Procurement and Grants Office, Centers for Disease Control and Prevention, Program Announcement 01094, 2920 Brandywine Road, Room 3000, Atlanta, GA 30341-4146, Telephone number: (770) 488-2747, E-Mail address: jrobertson@cdc.gov.

Programmatic technical assistance may be obtained from: Fred L. Stallings, Division of Cancer Prevention and Control, National Center for Chronic Disease Prevention and Health Promotion, Centers for Disease Control and Prevention (CDC), 4770 Buford Highway NE., Mail Stop K-55, Atlanta, GA 30341-3724, Telephone number: (770) 488-4293, E-mail address: fls2@cdc.gov.

Dated: May 16, 2001.
Henry S. Cassell, III,
Acting Director, Procurement and Grants Office, Centers for Disease Control and Prevention (CDC).

[FR Doc. 01-12812 Filed 5-21-01; 8:45 am]

BILLING CODE 4163-18-P